ENVIRONMENTAL PROTECTION AGENCY

[EPA-HQ-OAR-2004-0060; FRL-10001-77-OMS]

Information Collection Request Submitted to OMB for Review and Approval; Comment Request; Certification and Compliance Requirements for Nonroad Spark-Ignition Engines (Renewal)

AGENCY: Environmental Protection Agency.

ACTION: Notice.

SUMMARY: The Environmental Protection Agency (EPA) has submitted an information collection request (ICR), Certification and Compliance Requirements for Nonroad Spark-Ignition Engines (EPA ICR Number 1695.13, OMB Control Number 2060-0338) to the Office of Management and Budget (OMB) for review and approval in accordance with the Paperwork Reduction Act. This notice is a proposed extension of the ICR, which is currently approved through October 31, 2019. Public comments were previously requested via the Federal Register on July 2, 2019 during a 60-day comment period. This notice allows for an additional 30 days for public comments. A fuller description of the ICR is given below, including its estimated burden and cost to the public. An agency may not conduct or sponsor and a person is not required to respond to a collection of information unless it displays a currently valid OMB control number.

DATES: Additional comments must be submitted on or before December 2, 2019.

ADDRESSES: Submit your comments, referencing the Docket ID No. EPA-HQ-OAR-2004-0060, to the EPA: Online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Julian Davis, Attorney Adviser, Compliance Division, Office of Transportation and Air Quality, U.S. Environmental Protection Agency, 2000 Traverwood, Ann Arbor, Michigan 48105; telephone number: 734-214-4029; fax number 734-214-4869; email address: davis.julian@epa.gov.

SUPPLEMENTARY INFORMATION: Supporting documents, which explain in detail the information that the EPA will be collecting, are available in the public docket, EPA-HQ-OAR-2004-0060, for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: As required by the Clean Air Act, EPA has regulations establishing emission standards and other requirements for various classes of vehicles, engines, and evaporative emissions. These regulations require that compliance be demonstrated prior to EPA granting a “Certificate of Conformity.” EPA is charged with issuing certificates of conformity for those engines which comply with applicable emission standards. Such a certificate must be issued before engines may be legally introduced into commerce. To apply for a certificate of conformity, manufacturers are required to submit descriptions of their planned production line, including detailed descriptions of the emission control system, and test data. The emission values achieved during certification testing may also be used in the Averaging, Banking, and Trading (ABT) Program. The program allows manufacturers to bank credits for engine families that emit below the standard and use the credits for families that emit above the standard. They may also trade banked credits with other manufacturers. Participation in the ABT program is voluntary. Different categories of spark-ignition engines may also be required to comply with production-line testing (PLT) and in-use testing. There are also recordkeeping and labeling requirements. This information is collected electronically by the Gasoline Engine Compliance Center (GECC) at the U.S. Environmental Protection Agency. GECC uses this information to ensure that manufacturers comply with applicable regulations and the Clean Air Act (CAA). It may also be used by the Office of Enforcement and Compliance Assurance (OECA) and the Department of Justice for enforcement purposes. Non-CBI may be disclosed on OTAQ's website or upon request under the Freedom of Information Act (FOIA) to trade associations, environmental groups, and the public. Any information submitted for which a claim of confidentiality is made is safeguarded according to EPA regulations at 40 CFR 2.201 et seq.

Form Numbers: NR Small SI Bond Worksheet (5900-450); NR Small SI Small Volume Bond Worksheet (5900-451); Altitude Worksheet (5900-452); Annual Production Worksheet (5900-90); NR Small SI Production Line Testing Report (5900-133); NR Small SI Averaging, Banking, and Trading Report (5900-131); Evaporative Fuel Cap Test Data (5900-453); Evaporative Fuel Line Test Data (5900-454); Evaporative Fuel Tank Data Worksheet (5900-455); Marine and Large SI Diurnal System Data Worksheet (5900-456); NR Small SI Equipment Worksheet (5900-457); Marine SI Vessel Worksheet (5900-458); Marine SI Engine Data Map Sheet (5900-459); Marine SI Averaging, Banking, and Trading Report (5900-92); Marine SI Production Line Testing Report (5900-91); Large SI Production Line Testing Report (5900-130); Large SI In-Use Testing Report (5900-93); Marine SI In-Use Testing Report (5900-93); Snowmobile Production Line Testing Report (5900-460); Rec Vehicle and ATV Production Line Testing Report (5900-461); Rec Vehicle Averaging, Banking and Trading Report (5900-462); Snowmobile Certification Template (5900-463); Rec Vehicle Catalytic Converter Checklist (5900-464); Snowmobile Averaging, Banking, and Trading Template (5900-465); Rec Vehicle Fuel Line Test Data Worksheet (5900-466); Rec Vehicle Fuel Tank Test Data Worksheet (5900-467).

Respondents/affected entities: Manufacturers of nonroad engines and evaporative components.

Estimated number of respondents: 620 (total).

Frequency of response: Yearly for certification, production, ABT, and warranty reports.

Total estimated burden: 281,351 hours (per year). Burden is defined at 5 CFR 1320.3(b)

Total estimated cost: $34,342,007 (per year), includes $12,374,111 annualized capital or operation & maintenance costs.

Changes in Estimates: There is an increase of 15,876 hours (from 265,475 hours to 281,351) in the total estimated burden in this collection from the burden currently identified in the OMB Inventory of Approved ICRs. This increase in hours is primarily attributed to an increase in the total number of respondents, though primarily from evaporative components, and an adjustment in the hours required to file a complete application for certification and conduct compliance activities throughout a calendar year.

Courtney Kerwin,
Director, Collection Strategies Division.

[FR Doc. 2019-23721 Filed 10-30-19; 8:45 am]

BILLING CODE 6560-50-P